DEPARTMENT OF ENERGY

Federal Energy Regulatory Commission

[Docket Nos. RP02-361-003 and RP02-361-004]

Gulfstream Natural Gas System, LLC; Notice of Compliance Filings

October 4, 2002.

Take notice that on September 3 and September 12, 2002, Gulfstream Natural Gas System, L.L.C. (Gulfstream) submitted revised negotiated rate agreements with Seminole Electric Cooperative, Inc. and the City of Lakeland, Florida, respectively, pursuant to the Commission's July 3, 2002 order in Docket No. RP02-361-000. Gulfstream is requesting privileged treatment for the agreements pursuant to Section 388.112 of the Commission's regulations.

Any person desiring to protest said filing should file a protest with the Federal Energy Regulatory Commission, 888 First Street, NE., Washington, DC 20426, in accordance with Section 385.211 of the Commission's Rules and Regulations. All such protests must be filed on or before October 11, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY (202) 502-8659. The Commission strongly encourages electronic filings. See, 18 CFR 385.2001(a)(1)(iii) and the instructions on the Commission's Web site under the “e-Filing” link.

Linwood A. Watson, Jr.,
Deputy Secretary.

[FR Doc. 02-25833 Filed 10-10-02; 8:45 am]

BILLING CODE 6717-01-P